DEPARTMENT OF ENERGY

Federal Energy Regulatory Commission

Combined Notice of Filings

Take notice that the Commission has received the following Natural Gas Pipeline Rate and Refund Report filings:

Filings Instituting Proceedings

Docket Numbers: RP17-904-000.

Applicants: Iroquois Gas Transmission System, L.P.

Description: Iroquois Gas Transmission System, L.P. submits tariff filing per 154.204: 07/19/17 Negotiated Rates—Consolidated Edison Energy Inc. H-2275-89 to be effective 7/19/2017.

Filed Date: 07/19/2017.

Accession Number: 20170719-5076.

Comment Date: 5:00 p.m. Eastern Time on Monday, July 31, 2017.

Docket Numbers: RP17-905-000.

Applicants: Rockies Express Pipeline LLC.

Description: Rockies Express Pipeline LLC submits tariff filing per 154.204: Neg Rate 2017-07-20 Encana, Ascent to be effective 7/22/2017.

Filed Date: 07/20/2017.

Accession Number: 20170720-5046.

Comment Date: 5:00 p.m. Eastern Time on Tuesday, August 01, 2017.

Docket Numbers: RP17-906-000.

Applicants: Northern Natural Gas Company.

Description: Northern Natural Gas Company submits tariff filing per 154.204: 20170720 FDD EG Filing to be effective 9/1/2017.

Filed Date: 07/20/2017.

Accession Number: 20170720-5098.

Comment Date: 5:00 p.m. Eastern Time on Tuesday, August 01, 2017.

Docket Numbers: RP17-907-000.

Applicants: Venice Gathering System, L.L.C.

Description: Venice Gathering System, L.L.C. submits tariff filing per 154.204: Filing to Update Contact Information to be effective 8/21/2017.

Filed Date: 07/20/2017.

Accession Number: 20170720-5118.

Comment Date: 5:00 p.m. Eastern Time on Tuesday, August 01, 2017.

Docket Numbers: RP17-908-000.

Applicants: East Tennessee Natural Gas, LLC.

Description: East Tennessee Natural Gas, LLC submits tariff filing per 154.204: July 2017 Negotiated Rate Cleanup Filing to be effective 8/21/2017.

Filed Date: 07/21/2017.

Accession Number: 20170721-5006.

Comment Date: 5:00 p.m. Eastern Time on Wednesday, August 02, 2017.

Docket Numbers: RP17-909-000.

Applicants: Saltville Gas Storage Company L.L.C.

Description: Saltville Gas Storage Company L.L.C. submits tariff filing per 154.204: SGSC July 2017 Cleanup Filing to be effective 8/21/2017.

Filed Date: 07/21/2017.

Accession Number: 20170721-5007.

Comment Date: 5:00 p.m. Eastern Time on Wednesday, August 02, 2017.

Docket Numbers: RP17-910-000.

Applicants: Cabot Oil & Gas Corporation,Carbon West Virginia Company, LLC.

Description: Joint Petition of Cabot Oil & Gas Corporation and Carbon West Virginia Company, LLC For Limited Waiver and Request for Expedited Action and Shortened Comment Period.

Filed Date: 07/20/2017.

Accession Number: 20170720-5179.

Comment Date: 5:00 p.m. Eastern Time on Thursday, July 27, 2017.

Docket Numbers: RP17-911-000.

Applicants: Egan Hub Storage, LLC.

Description: Egan Hub Storage, LLC submits tariff filing per 154.204: Egan July 2017 Cleanup Filing to be effective 8/21/2017.

Filed Date: 07/21/2017.

Accession Number: 20170721-5008.

Comment Date: 5:00 p.m. Eastern Time on Wednesday, August 02, 2017.

Docket Numbers: RP17-797-001.

Applicants: Colorado Interstate Gas Company, L.L.C.

Description: Colorado Interstate Gas Company, L.L.C. submits tariff filing per 154.203: Errata to Quarterly LUF True-up Filing.

Filed Date: 07/21/2017.

Accession Number: 20170721-5091.

Comment Date: 5:00 p.m. Eastern Time on Friday, July 28, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2017.
Kimberly D. Bose,
Secretary.

[FR Doc. 2017-16240 Filed 8-1-17; 8:45 am]

BILLING CODE 6717-01-P